NUCLEAR REGULATORY COMMISSION

[Docket No. 50-271; NRC-2015-0029]

Entergy Nuclear Operations, Inc.; Vermont Yankee Nuclear Power Station

AGENCY: Nuclear Regulatory Commission.

ACTION: License amendment application; withdrawal by applicant.

SUMMARY: The U.S. Nuclear Regulatory Commission (NRC) has granted the request of Entergy Nuclear Operations, Inc. (Entergy, the licensee), to withdraw its application dated September 4, 2014, for a proposed amendment to Renewed Facility Operating License No. DPR-28, for the Vermont Yankee Nuclear Power Station (VY). The proposed amendment would have replaced VY's decommissioning trust fund (DTF) license conditions with the NRC's regulations governing decommissioning trust funds.

DATES: November 17, 2015.

ADDRESSES: Please refer to Docket ID NRC-2015-0029 when contacting the NRC about the availability of information regarding this document. You may obtain publicly-available information related to this document using any of the following methods:

• Federal Rulemaking Web site: Go to http://www.regulations.gov and search for Docket ID NRC-2015-0029. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: James Kim, Office of Nuclear Reactor Regulation, U.S. Nuclear Regulatory Commission, Washington, DC 20555-0001; telephone: 301-415-4125; email: James.Kim@nrc.gov.

SUPPLEMENTARY INFORMATION: The NRC has granted the request of Entergy Nuclear Operations, Inc. (Entergy, the licensee), to withdraw its application dated September 4, 2014 (ADAMS Accession No. ML14254A405), for a proposed amendment to Renewed Facility Operating License No. DPR-28, for VY, located in Windam County, Vermont. The proposed amendment would have replaced VY's DTF license conditions with the DTF provisions in paragraph 50.75(h) of Title 10 of the Code of Federal Regulations (CFR).

The NRC published a Biweekly Notice in the Federal Register on February 17, 2015 (80 FR 8359), that gave notice that this proposed amendment was under consideration by the NRC. However, by letter dated September 22, 2015 (ADAMS Accession No. ML15267A074), the licensee requested to withdraw the proposed amendment.

Dated at Rockville, Maryland, this 10th day of November 2015.
For the Nuclear Regulatory Commission.
Meena K. Khanna,
Chief, Plant Licensing Branch IV-2 and Decommissioning Transition Branch, Division of Operating Reactor Licensing, Office of Nuclear Reactor Regulation.

[FR Doc. 2015-29300 Filed 11-16-15; 8:45 am]

BILLING CODE 7590-01-P